DEPARTMENT OF THE INTERIOR

Bureau of Land Management

[AK-050-02-1610-DO-085L]

Resource Management Plan; East Alaska Planning Area

AGENCY: Bureau of Land Management; Glennallen Field Office, Interior.

ACTION: Notice of Intent to prepare a Resource Management Plan (RMP) for the East Alaska planning area and Environmental Impact Statement (EIS).

SUMMARY: This document provides notice that the Bureau of Land Management (BLM) intends to prepare an RMP with an associated EIS for the Glennallen Field Office. This planning activity encompasses approximately 7.6 million acres of BLM-administered lands. The plan will fulfill the needs and obligations set forth by the National Environmental Policy Act (NEPA), the Federal Land Policy and Management Act (FLPMA), and BLM management policies. The BLM will work collaboratively with interested parties to identify the management decisions that are best suited to local, regional, and national needs and concerns. The public scoping process will identify planning issues and develop planning criteria. The public is invited to nominate potential areas of critical environmental concern and potential special management areas during the planning process. The planning area is located from the southern slopes of the Alaska Range to the Chugach Mountains, from the Talkeetna Mountains to the Wrangell Mountains, and includes an extensive area of coastline in Prince William Sound.

DATES: The public scoping process will begin on the date of this publication in the Federal Register and will end after 90 days. Comments on issues and planning criteria can be submitted in writing to the address listed below. All public meetings will be announced through the local news media and the BLM Web site (http://www.glennallen.ak.blm.gov) at least 15 days prior to the event. The minutes and list of attendees for each meeting will be available to the public and open for 30 days to any participant who wishes to clarify the views they expressed.

Public Participation: Public meetings will be held throughout the plan scoping and preparation period. In order to ensure local community participation and input, public meetings will be held in the communities of Anchorage, Fairbanks, Valdez, Delta Junction, Paxson, Glennallen, and Slana as well as the villages of Gulkana, Tazlina, Chitina, Cantwell, Chistochina, and Copper Center. Early participation is encouraged and will help determine the future management of BLM-administered lands within the planning area. In addition to the ongoing public participation process, formal opportunities for public participation will be provided through comment on the alternatives and upon publication of the BLM draft RMP/EIS.

ADDRESSES: Written comments should be sent to: East Alaska Resource Management Planning, Bureau of Land Management, Glennallen Field Office, P.O. Box 147, Glennallen, Alaska 99588; Fax (907)-822-3120. Comments, including names and street addresses of respondents, will be available for public review at the Glennallen Field Office during regular business hours 7:30 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials or organizations or businesses, will be available for public inspection in their entirety.

FOR FURTHER INFORMATION: For further information and/or to have your name added to our mailing list, contact Bruce Rogers, telephone (907) 822-3217.

SUPPLEMENTARY INFORMATION: Currently, a Management Framework Plan (MFP) completed in 1980 guides the use of these lands. A new RMP is necessary to respond to increasing tourism and recreational use in the area, and new issues that have developed since 1980. Preliminary issues and management concerns have been identified by BLM personnel, other agencies, and in meetings with individuals and user groups. They represent the BLM's knowledge to date on the existing issues and concerns with current management. The major issue themes that will be addressed in the plan effort include: How will people's uses and activities be managed; how to we protect and conserve lands having special critical or unique features or resource values; and how will the natural resources of the East Alaska planning area be managed and conserved? After gathering public comments on what issues the plan should address, the suggested issues will be placed in one of three categories: 1. Issued to be resolved in the plan; 2. Issues resolved through policy or administrative action; or 3. Issues beyond the scope of this plan.

Rationale will be provided in the plan for each issue placed in category two or three. In addition to these major issues, a number of management question and concerns will be addressed in the plan. The public is encouraged to help identify these questions and concerns during the scoping phase.

An interdisciplinary approach will be used to develop the plan in order to consider the variety of resource issues and concerns identified. Disciplines involved in the planning process will include specialists with expertise in outdoor recreation, minerals and geology, forestry, archaeology, paleontology, wildlife and fisheries, lands and realty, hydrology, soils, vegetation, sociology and economics.

K. J. Mushovic,
Glennallen Field Office, Bureau of Land Management.

[FR Doc. 03-6273 Filed 3-17-03; 8:45 am]

BILLING CODE 4310-AG-M